DEPARTMENT OF HEALTH AND HUMAN SERVICES

Centers for Medicare & Medicaid Services

[Document Identifier: CMS-10079 and CMS-10149]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Hospital Wage Index Occupational Mix Survey and Supporting Regulations in 42 CFR, Section 412.64; Use: Section 304(c) of Public Law 106-554 amended section 1886(d)(3)(E) of the Social Security Act to require CMS to collect data every 3 years on the occupational mix of employees for each short-term, acute care hospital participating in the Medicare program, in order to construct an occupational mix adjustment to the wage index, for application beginning October 1, 2004 (the FY 2005 wage index). The purpose of the occupational mix adjustment is to control for the effect of hospitals' employment choices on the wage index. Form Number: CMS-10079 (OMB#: 0938-0907); Frequency: Reporting—Yearly, Biennially and Occasionally ; Affected Public: Private Sector—Business or other for-profits and Not-for-profit institutions; Number of Respondents: 3,500; Total Annual Responses: 3,500; Total Annual Hours: 1,680,000. (For policy questions regarding this collection contact Geri Mondowney at 410-786-1172. For all other issues call 410-786-1326.)

2. Type of Information Collection Request: Reinstatement without change of a previously approved collection; Title of Information Collection: Health Insurance Reform: Electronic Security Standards; Use: This information collection corresponds to existing regulations establishing standards for the security of electronic protected health information to be implemented by health plans, health care clearinghouses and certain health care providers, as required under Title II, subtitle F, sections 261 through 264 of the Health Insurance Portability and Accountability Act of 1996 (HIPAA), Public Law 104-191. The use of the security standards improves Federal health programs, private health programs, and the effectiveness and efficiency of the health care industry in general by establishing a level of protection for certain electronic health information. This information collection request does not propose any changes to this information collection related to future modifications of the underlying HIPAA security standards. Form Number: CMS-10149 (OCN: 0938-0949); Frequency: Occasionally; Affected Public: Business or other for-profit, Not-for-profit institutions, Federal Government, and State, Local or Tribal Government; Number of Respondents: 135,560; Total Annual Responses: 285,560; Total Annual Hours: 536,743. (For policy questions regarding this collection contact William Parham at 410-786-4669. For all other issues call 410-786-1326.)

To obtain copies of the supporting statement and any related forms for the proposed paperwork collections referenced above, access CMS Web site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on April 1, 2013. OMB, Office of Information and Regulatory Affairs, Attention: CMS Desk Officer, Fax Number: (202) 395-6974, Email: OIRA_submission@omb.eop.gov.

Dated: February 22, 2013.
Martique Jones,
Deputy Director, Regulations Development Group, Office of Strategic Operations and Regulatory Affairs.

[FR Doc. 2013-04548 Filed 2-27-13; 8:45 am]

BILLING CODE 4120-01-P